ENVIRONMENTAL PROTECTION AGENCY

[OAR-2004-0060, FRL-7818-9]

Agency Information Collection Activities: Proposed Collection; Comment Request; Emissions Certification and Compliance Requirements for Nonroad Spark-Ignition Engines (Renewal); EPA ICR Number 1695.08, OMB Control Number 2060-0338

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on 9/30/2004. Under OMB regulations, the Agency may continue to conduct or sponsor the collection of information while this submission is pending at OMB. This ICR describes the nature of the information collection and its estimated burden and cost.

DATES: Additional comments may be submitted on or before October 27, 2004.

ADDRESSES: Submit your comments, referencing docket ID number OAR-2004-0060, to (1) EPA online using EDOCKET (our preferred method), by e-mail to a-and-r-docket@epamail.epa.gov, or by mail to: Environmental Protection Agency, EPA Docket Center (EPA/DC), Air and Radiation Docket and Information Center, Mail Code 6102T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Ms. Nydia Y. Reyes-Morales, Mail Code 6403J, Environmental Protection Agency, 1200 Pennsylvania Avenue, NW., Washington, DC 20460; telephone number: 202-343-9264; fax number: 202-343-2804; email address: reyes-morales.nydia@epa.gov.

SUPPLEMENTARY INFORMATION: EPA has submitted the following ICR to OMB for review and approval according to the procedures prescribed in 5 CFR 1320.12. On June 18, 2004 (69 FR 34158), EPA sought comments on this ICR pursuant to 5 CFR 1320.8(d). EPA received only one comment. The commenter suggested that EPA establish zero-emission requirements for nonroad engines.

EPA has established a public docket for this ICR under Docket ID number OAR-2004-0060, which is available for public viewing at the Air and Radiation Docket and Information Center, in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, confidential business information (CBI), or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Emissions Certification and Compliance Requirements for Nonroad Spark-ignition Engines (Renewal).

Abstract: This information collection is requested under the authority of Title II of the Clean Air Act (42 U.S.C. 7521 et seq.). Under this Title, EPA is charged with issuing certificates of conformity for those engines which comply with applicable emission standards. Such a certificate must be issued before engines may be legally introduced into commerce. Certification requirements for spark-ignition engines are set forth at 40 CFR part 90. To apply for a certificate of conformity, manufacturers are required to submit descriptions of their planned production line, including detailed descriptions of the emission control system, and test data. This information is organized by “engine family” groups expected to have similar emission characteristics. The emission values achieved during certification testing are used in the Averaging, Banking, and Trading (ABT) Program. The program allows manufacturers to bank credits for engine families that emit below the standard and use the credits for families that are above the standard, or trade banked credits with other manufacturers. Participation in the ABT program is voluntary. There are also recordkeeping and labeling requirements. In this notice, former ICR 1845.03 (“Production Line Testing, In-use Testing, and Selective Enforcement Auditing Reporting and Recordkeeping Requirements for Manufacturers of Nonroad Spark Ignition Engines At or Below 19 Kilowatts,” OMB Control Number 2060-0427, expiring on 3/31/2007) is being incorporated into ICR 1695.08. This action is undertaken to consolidate certification and compliance information requirements for spark-ignition engines below 19 kW into one ICR for simplification. Portions of former ICR 1897.04 [“Information Requirements for Nonroad Diesel Engines (Nonroad Large SI Engines and Marine Diesel Engines)”, OMB Control Number 2060-0460, expiring on 10/31/2004] related to certification requirements for spark ignition engines above 19 kW and spark-ignition recreational vehicles are also being incorporated into ICR 1695.08. With this consolidation, we combine all the certification and compliance burden associated with the spark-ignition engine industry.

The information is collected for compliance purposes by the Engine Programs Group, Certification and Compliance Division, Office of Transportation and Air Quality, Office of Air and Radiation. Confidentiality of proprietary information is granted in accordance with the Freedom of Information Act, EPA regulations at 40 CFR 2, and class determinations issued by EPA's Office of General Counsel.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 1,379 per respondent. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Manufacturers of nonroad spark-ignition engines and recreational vehicles.

Estimated Number of Respondents: 106.

Frequency of Response: Annually, quarterly and on occasion.

Estimated Total Annual Hour Burden: 146,134.

Estimated Total Annual Cost: $9,925,673, which includes $0 annual capital/startup costs, $1,642,476 annualized O&M costs, and $8,283,197 annual labor costs.

Changes in the Estimates: There is an increase of 98,398 hours in the total estimated burden currently identified in the OMB Inventory of Approved ICR Burdens. This increase is due to (1) changes in the estimated number of hours that respondents spend carrying out each task and (2) the consolidation of ICRs 1845.03 and portions of 1897.05 into this ICR, as explained above . The increase in burden is, therefore, due to an adjustment to the estimates.

Dated: September 20, 2004.
Oscar Morales,
Director, Collection Strategies Division.

[FR Doc. 04-21582 Filed 9-24-04; 8:45 am]

BILLING CODE 6560-50-P